OFFICE OF THE UNITED STATES TRADE REPRESENTATIVE

[Docket Number USTR-2018-0031]

Generalized System of Preferences (GSP): Notice Regarding the Initiation of Country Practice Review of Turkey

AGENCY: Office of the United States Trade Representative.

ACTION: Notice of public hearing and request for comments.

SUMMARY: The Office of the United States Trade Representative (USTR) is announcing the initiation of a country practice review of the eligibility of Turkey for benefits under the GSP program. This review will focus on whether Turkey is meeting the GSP eligibility criterion that requires a GSP beneficiary country to assure the United States that it will provide equitable and reasonable access to its market. This notice includes the schedule for submission of public comments and a public hearing.

DATES:

September 12, 2018 at midnight EDT: Deadline for submission of comments, pre-hearing briefs, and requests to appear at the September 26, 2018 public hearing.

September 26, 2018: The GSP Subcommittee of the Trade Policy Staff Committee (TPSC) will convene a public hearing on the GSP country practice review of Turkey in Rooms 1 and 2, 1724 F Street NW, Washington DC 20508, beginning at 10:00 a.m.

October 17, 2018 at midnight EDT: Deadline for submission of post-hearing briefs.

ADDRESSES: USTR strongly prefers electronic submissions made through the Federal eRulemaking Portal: http://www.regulations.gov. The submission instructions are in section D below. The docket number is USTR-2018-0031. For alternatives to on-line submissions, please contact Lauren Gamache at 202-395-2974 or gsp@ustr.eop.gov before transmitting a comment and in advance of the relevant deadline.

FOR FURTHER INFORMATION CONTACT: Contact Lauren Gamache at 202-395-2974 or gsp@ustr.eop.gov.

SUPPLEMENTARY INFORMATION:

A. Background

The GSP program provides for the duty-free importation of designated articles when imported from designated beneficiary developing countries. The GSP program is authorized by Title V of the Trade Act of 1974, as amended (19 U.S.C. 2461-2467), and is implemented in accordance with Executive Order 11888 of November 24, 1975, as modified by subsequent Executive Orders and Presidential Proclamations.

B. Initiation of a Country Practice Review of Turkey

USTR will lead a review of the eligibility of Turkey for benefits under the GSP program, and the GSP Subcommittee of the TPSC invites public comments regarding this review. The country practice review of Turkey will focus on whether Turkey is meeting the GSP eligibility criterion that requires a GSP beneficiary country to assure the United States that it will provide equitable and reasonable access to its market (19 U.S.C. 2462(c)(4)). Turkey recently has implemented a wide array of trade barriers that create serious negative effects on U.S. commerce, including imposing additional duties only on U.S. products, and in some instances, imposing additional duties that exceed the rates set out by Turkey in its World Trade Organization schedule of concessions.

C. Notice of Public Hearing

The GSP Subcommittee of the TPSC will hold a hearing on September 26, 2018, beginning at 10:00 a.m., to receive information regarding the country practice review of Turkey. The hearing will be held in Rooms 1 and 2, 1724 F Street NW, Washington, DC 20508, and will be open to the public and to the press. A transcript of the hearing will be available on www.regulations.gov within approximately two weeks after the date of the hearing. All interested parties wishing to make an oral presentation at the hearing must submit, following the Requirements for Submissions below, the name, address, telephone number, and email address, if available, of the witness(es) representing their organization no later than midnight on September 12, 2018.

Requests to present oral testimony must be accompanied by a written brief or summary statement, in English. The GSP Subcommittee of the TPSC will limit oral testimony to five-minute presentations that summarize or supplement information contained in briefs or statements submitted for the record. The GSP Subcommittee of the TPSC will accept post-hearing briefs or statements if they conform to the requirements set out below and are submitted in English, no later than midnight on October 17, 2018.

Parties not wishing to appear at the public hearing may submit pre-hearing and post-hearing briefs or comments by these deadlines. In order to be assured of consideration, you must submit all post-hearing briefs or statements by the October 17, 2018 deadline via www.regulations.gov using docket number USTR-2018-0031.

D. Requirements for Submissions

Submissions in response to this notice, including requests to testify, written comments, and pre-hearing and post-hearing briefs, must be submitted by the applicable deadlines set forth in this notice. All submissions must be made in English and submitted electronically via http://www.regulations.gov, using docket number USTR-2018-0031.

To submit comments via www.regulations.gov, enter docket number USTR-2018-0031 on the home page and click “search.” The site will provide a search-results page listing all documents associated with this docket. Find a reference to this notice and click on the link entitled “comment now!”. For further information on using the www.regulations.gov website, please consult the resources provided on the website by clicking on “How to Use Regulations.gov” on the bottom of the home page. USTR will not accept hand-delivered submissions.

The www.regulations.gov website allows users to submit comments by filling in a “type comment” field or by attaching a document using an “upload file” field. USTR prefers that you submit comments in an attached document. At the beginning of the submission, or on the first page (if an attachment) please identify the submission as follows: (1) “Turkey Country Practice Review”; (2) the subject matter; and (3) whether the document is a “Written Comment,” “Notice of Intent to Testify,” “Pre-hearing brief,” or a “Post-hearing brief.” Submissions should not exceed thirty single-spaced, standard letter-size pages in twelve-point type, including attachments. Please do not attach separate cover letters to electronic submissions; rather, include any information that might appear in a cover letter in the comments themselves. Similarly, to the extent possible, please include any exhibits, annexes, or other attachments in the same file as the submission itself, not as separate files.

USTR prefers submissions in Microsoft Word (.doc) or Adobe Acrobat (.pdf). If you use an application other than those two, please indicate the name of the application in the “type comment” field.

Filers submitting comments containing no business confidential information should name their file using the name of the person or entity submitting the comments. For any comments submitted electronically containing business confidential information, the file name of the business confidential version should begin with the characters “BC”. Any page containing business confidential information must be clearly marked “BUSINESS CONFIDENTIAL” on the top of that page. Filers of submissions containing business confidential information also must submit a public version of their comments that we will place in the docket for public inspection. The file name of the public version should begin with the character “P”. The “BC” and “P” should be followed by the name of the person or entity submitting the comments.

As noted, USTR strongly urges that you file submissions through www.regulations.gov. You must make any alternative arrangements with Lauren Gamache at 202-395-2974 or gsp@ustr.eop.gov before transmitting a comment and in advance of the relevant deadline. Documents not submitted in accordance with these instructions may not be considered in this review.

USTR will post submissions in the docket for public inspection, except business confidential information. You can view submissions on the https://www.regulations.gov website by entering docket number USTR-2018-0031 in the search field on the home page. General information concerning USTR is available at www.ustr.gov.

Erland Herfindahl,
Deputy Assistant U.S. Trade Representative for the Generalized System of Preferences, Office of the U.S. Trade Representative.

[FR Doc. 2018-17712 Filed 8-15-18; 8:45 am]

BILLING CODE 3290-F8-P